DEPARTMENT OF EDUCATION

National Assessment Governing Board

Meeting; Correction

AGENCY: National Assessment Governing Board, Department of Education.

ACTION: Notice; correction.

SUMMARY: The National Assessment Governing Board (hereafter referred to as the Board or Governing Board) published a document in the Federal Register on Friday, July 11, 2025, announcing the schedule and proposed agenda of the Thursday, July 30, 2025 and Friday, August 1, 2025, quarterly meeting of the Governing Board. The meeting agenda has been revised to reflect the below changes to the Friday, August 1, 2025, session of the Governing Board meeting.

FOR FURTHER INFORMATION CONTACT: Angela Scott (202) 357-7502.

SUPPLEMENTARY INFORMATION:

Correction

Notice of the hybrid meeting was published in the Federal Register on Friday, July 11, 2025, in FR Doc. 2025-13008 at 90 FR 30893-30895. The meeting notice is being amended to update the SUPPLEMENTARY INFORMATION to revise to reflect the new time for these meetings. On page 30894 in the 2nd column make the following correction to the topics and time of the Open and Closed sessions. The closed session originally scheduled from 3:15 p.m. to 4:30 p.m. will now be held from 3:15 p.m. to 4:45 p.m. to review the NAEP Long-Term Trend Assessments. The open session originally scheduled from 4:30 p.m. to 4:45 p.m. to discuss the initial plans for Content Advisory Groups has been cancelled. On page 30895 in the 1st column make the following addition and corrections to the times of the Open sessions. From 11:15 a.m. to 11:20 a.m., the Board will take action on the Delegation of Authority to the Reporting and Dissemination Committee regarding the release plan for 2024 NAEP Reading and Mathematics—Grade 12. The action on the Resolution to Request Postponing NAEP Reading and Mathematics from 2028 to 2029, originally scheduled for 11:15 a.m. to 11:20 a.m. will now be held from 11:20 a.m. to 11:25 a.m. Farewell remarks by outgoing members originally scheduled from 11:20 a.m. to 11:40 a.m. will now take place from 11:25 a.m. to 11:40 a.m. The meeting will end at 11:40 a.m. as originally announced.

Elizabeth Schneider,
Executive Deputy Director, National Assessment Governing Board (NAGB), U.S. Department of Education.

[FR Doc. 2025-13755 Filed 7-21-25; 8:45 am]

BILLING CODE P